DEPARTMENT OF COMMERCE

International Trade Administration

(A-351-825, A-533-810, A-588-833, A-469-805)

Stainless Steel Bar from Brazil, India, Japan, and Spain: Continuation of Antidumping Duty Orders

AGENCY: Import Administration, International Trade Administration, Department of Commerce.

SUMMARY: As a result of the determinations by the Department of Commerce (the Department) and the International Trade Commission (ITC) that revocation of the antidumping duty orders on stainless steel bar from Brazil, India, Japan, and Spain would be likely to lead to continuation or recurrence of dumping and of material injury to an industry in the United States within a reasonably foreseeable time, the Department is publishing notice of the continuation of these antidumping duty orders.

EFFECTIVE DATE: January 23, 2007.

FOR FURTHER INFORMATION CONTACT: Kristin Case or Minoo Hatten, Office 5, AD/CVD Operations, Import Administration, International Trade Administration, U.S. Department of Commerce, 14th Street & Constitution Avenue, NW, Washington, DC 20230; telephone: (202) 482-3174 and (202) 482-1690, respectively.

SUPPLEMENTARY INFORMATION:

Background

On March 1, 2006, the Department initiated the second sunset reviews of the antidumping duty orders on stainless steel bar (SSB) from Brazil, India, Japan, and Spain pursuant to section 751(c) of the Tariff Act of 1930, as amended (the Act). See Initiation of Five-Year (“Sunset”) Reviews, 71 FR 10476 (March 1, 2006).

As a result of our review, we found that revocation of the antidumping duty orders would be likely to lead to continuation or recurrence of dumping and we notified the ITC of the magnitude of the margins likely to prevail were the orders to be revoked. See Stainless Steel Bar from Brazil, India, Japan, and Spain; Final Results of the Expedited Sunset Reviews of the Antidumping Duty Orders, 71 FR 38372 (July 6, 2006). On December 4, 2006, the ITC determined, pursuant to section 751(c) of the Act, that revocation of the antidumping duty orders on SSB from Brazil, India, Japan, and Spain would be likely to lead to continuation or recurrence of material injury to an industry in the United States within a reasonably foreseeable time. See Stainless Steel Bar From Brazil, India, Japan, and Spain, 72 FR 1243 (January 10, 2007), and ITC Publication 3895 (January 2007) entitled Stainless Steel Bar from Brazil, India, Japan, and Spain: Investigation Nos. 731-TA-678, 679, 681 and 682 (Second Review).

Scope of the Orders

Imports covered by these orders are shipments of SSB. SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The SSB subject to these orders is currently classifiable under subheadings 7222.11.00.05, 7222.11.00.50, 7222.19.00.05, 7222.19.00.50, 7222.20.00.05, 7222.20.00.45, 7222.20.00.75, and 7222.30.00.00 of the Harmonized Tariff Schedule of the United States (HTSUS). Although the HTSUS subheadings are provided for convenience and customs purposes, our written description of the scope of these orders is dispositive.

Determination

As a result of the determinations by the Department and ITC that revocation of these antidumping duty orders would be likely to lead to continuation or recurrence of dumping and material injury to an industry in the United States, pursuant to section 751(d)(2) of the Act, the Department hereby orders the continuation of the antidumping duty orders on stainless steel bar from Brazil, India, Japan, and Spain.

U.S. Customs and Border Protection will continue to collect antidumping duty cash deposits at the rates in effect at the time of entry for all imports of subject merchandise.

The effective date of continuation of these orders will be the date of publication in the Federal Register of this Notice of Continuation. Pursuant to section 751(c) of the Act, the Department intends to initiate the next five-year reviews of these orders not later than January 2012.

This notice is in accordance with sections 751(c) and 777(i)(1) of the Act.

Dated: January 16, 2007.
David M. Spooner,
Assistant Secretary for Import Administration.

[FR Doc. E7-862 Filed 1-22-07; 8:45 am]

BILLING CODE 3510-DS-S